DEPARTMENT OF HOMELAND SECURITY

Federal Emergency Management Agency

44 CFR Part 67

[Docket No. FEMA-P-7665]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and record keeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆ Elevation in feet (NAVD): Existing | ◆ Elevation in feet (NAVD): Modified | Communities affected
Alligator Bayou:
At the confluence with Flat River | ◆ 163 | ◆ 160 | City of Bossier City.
Approximately 1,550 feet downstream of U.S. Highway 79/80 Eastbound | ◆ 163 | ◆ 162 |
Benoit Bayou:
At the confluence with Macks Bayou Segment G and Macks Bayou Segment H | ◆ 166 | ◆ 168 | City of Bossier City, Bossier Parish (Unincorporated Areas).
Approximately 12,520 feet upstream of Brownlee Road | None | ◆ 173 |
Bossier Ditch:
Approximately 60 feet upstream of the confluence with Cooper Bayou and Macks Bayou Segment F | ◆ 160 | ◆ 159 | City of Bossier City.
Approximately 180 feet upstream of Benton Road | None | ◆ 170 |
Fifi Bayou:
Just upstream of U.S. Interstate 20 | None | ◆ 174 | Bossier Parish (Unincorporated Areas).
Approximately 9,000 feet upstream of Winfield Road | None | ◆ 190 |
Flat River:
Just upstream of State Route 527 | None | ◆ 154 | City of Bossier City, Bossier Parish (Unincorporated Areas).
Approximately 500 feet upstream of U.S. Interstate 220 Westbound | ◆ 165 | ◆ 164 |
Flat River Drainage Canal:
Just upstream of Coy Road | ◆ 166 | ◆ 165 | City of Bossier, City Bossier Parish (Unincorporated Areas).
Approximately 400 feet upstream of Airline Drive | ◆ 173 | ◆ 174 |
Herndon Ditch: |
At the confluence with Flat River | ◆ 156 | ◆ 158 | City of Bossier City, Bossier Parish (Unincorporated Areas).
Approximately 1,300 feet downstream of the confluence of Macks Bayou Segment B | ◆ 157 | ◆ 158 |
Lake Bistineau: Entire shoreline within Bossier Parish | None | ◆ 148 | Bossier Parish (Unincorporated Areas).City of Bossier City, Bossier Parish (Unincorporated Areas).
Macks Bayou Segment A:
At the confluence with Flat River | ◆ 156 | ◆ 157 | City of Bossier City.
Approximately 25 feet upstream of Golden Meadows Drive | ◆ 156 | ◆ 157
Macks Bayou Segment E:
Approximately 1,025 feet upstream of the confluence with Bossier Ditch | ◆ 162 | ◆ 163 | City of Bossier City.
Approximately 2,010 feet upstream of the confluence with Bossier Ditch | ◆ 162 | ◆ 163 |
Macks Bayou Segment G:
Approximately 650 feet upstream of Kansas City Southern Railway | ◆ 166 | ◆ 167 | City of Bossier City.
At the confluence of Benoit Bayou and junction with Macks Bayou Segment H | ◆ 166 | ◆ 168 |
Macks Bayou Segment H:
Approximately 190 feet upstream of the confluence with Flat River | ◆ 165 | ◆ 166 | City of Bossier City, Bossier Parish (Unincorporated Areas).
At the confluence of Benoit Bayou and divergence of Macks Bayou Segment G | ◆ 166 | ◆ 168 |
Racetrack Bayou:
At the confluence with Willow Chute | None | ◆ 166 | City of Bossier City.
At U.S. Interstate 220 Westbound and divergence from Macks Bayou Segment H | ◆ 166 | ◆ 168 |
Red Chute Bayou:
Approximately 12,400 feet upstream of Smith Road | None | ◆ 154 | City of Bossier City, Bossier Parish (Unincorporated Areas).
Approximately 4,050 feet upstream of Dogwood Trail | ◆ 165 | ◆ 169 |
City of Bossier City
Maps are available for inspection at City Hall, 620 Benton Road, Bossier City, Louisiana.
Send comments to The Honorable George Dement, Mayor, City of Bossier City, City Hall, 620 Benton Road, Bossier City, Louisiana 71111.
Bossier Parish (Unincorporated Areas)
Maps are available for inspection at the Police Jury Office, 204 Burt Boulevard, Room 108, Benton, Louisiana.
Send comments to The Honorable Rick Avery, Bossier Parish President, P.O. Box 70, Benton, Louisiana 71006.
Carter Branch:
Approximately 275 feet above confluence with Mill Race | ◆ 943 | ◆ 944 | City of Carthage, Jasper County (Unincorporated Areas).
Approximately 5,030 feet upstream of East 13th Street | None | ◆ 1,020 |
City Branch:
Approximately 500 feet upstream of the confluence with Spring River | ◆ 935 | ◆ 936 | Jasper County (Unincorporated Areas).
Approximately 330 feet upstream of Case Street | None | ◆ 1,018 | City of Carthage.
Addresses
Jasper County (Unincorporated Areas)
Maps are available for inspection at Tri-State Engineering, Inc., 1102 West 9th Street, Joplin, Missouri.
Send comments to The Honorable Chuck Surface, Presiding Commissioner, 302 South Main Street, Carthage, Missouri 64836.
City of Carthage
Maps are available for inspection at the Engineer's Office, 623 East 7th Street, Carthage, Missouri.
Send comments to The Honorable Kenneth Johnson, Mayor, City of Carthage, 326 Grant Street, Carthage, Missouri 64836.

(Catalog of Federal Domestic Assistance No. 83.100, “Flood Insurance”)
Dated: December 7, 2004.
David I. Maurstad,
Acting Director, Mitigation Division, Emergency Preparedness and Response Directorate.

[FR Doc. 04-27246 Filed 12-10-04; 8:45 am]

BILLING CODE 9110-12-P